DEPARTMENT OF TRANSPORTATION

Federal Aviation Administration

14 CFR Part 39

[Docket No. FAA-2017-1166; Product Identifier 2017-CE-042-AD; Amendment 39-19217; AD 2018-05-08]

RIN 2120-AA64

Airworthiness Directives; GA 8 Airvan (Pty) Ltd Airplanes

AGENCY: Federal Aviation Administration (FAA), Department of Transportation (DOT).

ACTION: Final rule.

SUMMARY: We are superseding Airworthiness Directive (AD) 2013-19-12 for GA 8 Airvan (Pty) Ltd Models GA8 and GA8-TC320 airplanes. This AD results from mandatory continuing airworthiness information (MCAI) issued by an aviation authority of another country to identify and address an unsafe condition on an aviation product. The MCAI describes the unsafe condition as the fuel system integral sump tank not meeting FAA regulations. We are issuing this AD to require actions to address the unsafe condition on these products.

DATES: This AD is effective April 12, 2018.

The Director of the Federal Register approved the incorporation by reference of a certain publication listed in this AD as of April 12, 2018.

ADDRESSES: You may examine the AD docket on the internet at http://www.regulations.gov by searching for and locating Docket No. FAA-2017-1166; or in person at Docket Operations, U.S. Department of Transportation, M-30, West Building Ground Floor, Room W12-140, 1200 New Jersey Avenue SE, Washington, DC 20590.

For service information identified in this AD, contact GA 8 Airvan (Pty) Ltd, c/o GippsAero Pty Ltd, Attn: Technical Services, P.O. Box 881, Morwell Victoria 3840, Australia; telephone: +61 03 5172 1200; fax: +61 03 5172 1201; email: aircraft.techpubs@mahindraaerospace.com. You may view this referenced service information at the FAA, Policy and Innovation Division, 901 Locust, Kansas City, Missouri 64106. For information on the availability of this material at the FAA, call (816) 329-4148. It is also available on the internet at http://www.regulations.gov by searching for Docket No. FAA-2017-1166.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 by adding an AD that would apply to GA 8 Airvan (Pty) Ltd Models GA8 and GA8-TC320 airplanes. That NPRM was published in the Federal Register on December 19, 2017 (82 FR 60128), and proposed to supersede AD 2013-19-12, Amendment 39-17594 (78 FR 58872, September 25, 2013) (“AD 2013-19-12”).

Since we issued AD 2013-19-12, the related service information has been amended to incorporate a modification to ventilate the area around the integral sump tank.

The NPRM proposed to address an unsafe condition for the specified products and was based on mandatory continuing airworthiness information (MCAI) originated by an aviation authority of another country. The MCAI states that:

The GippsAero GA8 and GA8-TC 320 aircraft Mk II fuel system features an integral sump tank located in the floor structure forward of the co-pilot seat. The current configuration of the compartments adjacent to the Mk II sump tank does not meet the requirements of regulation 23.967(b) of the Federal Aviation Regulations of the United States of America in that they are not suitably ventilated and drained to prevent the accumulation of flammable fluids or vapours.

Amendment 1 of this [CASA] directive mandates ventilation of the area around the integral sump tank as presented in SB-GA8-2012-96 Issue 6 to meet the requirements of regulation 23.967(b) of the Federal Aviation Regulations of the United States of America.

The MCAI can be found in the AD docket on the internet at https://www.regulations.gov/document?D=FAA-2017-1166-0002.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for addressing the unsafe condition; and

• Do not add any additional burden upon the public than was already proposed in the NPRM.

Related Service Information

We reviewed GippsAero Service Bulletin SB-GA8-2012-96, Issue 6, dated July 21, 2016. This service information describes procedures for modifying the fuel ventilation and drainage system. This service information is reasonably available because the interested parties have access to it through their normal course of business or by the means identified in the ADDRESSES section of this AD.

Costs of Compliance

We estimate that this AD will affect 47 products of U.S. registry. We also estimate that it will take about 3 work-hours per product to do fuel system ventilation and drainage modification requirement of this AD (this action is retained from AD 2013-19-12). The average labor rate is $85 per work-hour.

Based on these figures, we estimate the cost of this portion of this AD on U.S. operators to be $11,985, or $255 per product.

We also estimate that it will take about 4 work-hours per product to do the supplementary fuel ventilation modification requirement of this AD. The average labor rate is $85 per work-hour. Required parts will cost about $932 per product.

Based on these figures, we estimate the cost of this portion of this AD on U.S. operators to be $59,784, or $1,272 per product.

In addition, we estimate that it will take about 4 work-hours per product to do the cargo pod modification requirement of this AD (this action is retained from AD 2013-19-12). The average labor rate is $85 per work-hour. Required parts will cost about $1,000 per product, for a cost of $1,340 per product. We have no way of determining the number of products that may need this action.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the internet at http://www.regulations.gov by searching for and locating Docket No. FAA-2017-1166; or in person at Docket Operations between 9 a.m. and 5 p.m., Monday through Friday, except Federal holidays. The AD docket contains the NPRM, the regulatory evaluation, any comments received, and other information. The street address for Docket Operations (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-17594 (78 FR 58872, September 25, 2013), and adding the following new AD:

2018-05-08 GA 8 Airvan (Pty) Ltd: Amendment 39-19217; Docket No. FAA-2017-1166; Product Identifier 2017-CE-042-AD.

(a) Effective Date

This airworthiness directive (AD) becomes effective April 12, 2018.

(b) Affected ADs

This AD replaces AD 2013-19-12, Amendment 39-17594 (78 FR 58872, September 25, 2013) (“AD 2013-19-12”).

(c) Applicability

This AD applies to the following GA 8 Airvan (Pty) Ltd airplane models and serial numbers (S/Ns) presented in paragraphs (c)(1) and (c)(2) that are certificated in any category:

(1) Group 1 Airplanes:

(i) Model GA8: S/N GA8-02-012 and S/Ns 128 through 205; and

(ii) Model GA8-TC320: S/Ns GA8-TC 320-02-016, GA8-TC 320-03-025, GA8-TC 320-09-120, and S/Ns 129 through 205.

(2) Group 2 Airplanes:

(i) Model GA8: S/N GA8-02-012 and S/Ns 128 through 246; and

(ii) Model GA8-TC320: S/Ns GA8-TC 320-02-016, GA8-TC 320-03-025, GA8-TC 320-09-120, and S/Ns 129 through 246.

Note 1 to paragraph (c) of this AD: The last three digits (third tier designation) of the affected airplane model S/Ns are sequential regardless of the model designation (first tier designation) or the year produced (second tier designation).

(d) Subject

Air Transport Association of America (ATA) Code 28: Fuel System.

(e) Reason

This AD was prompted by mandatory continuing airworthiness information (MCAI) issued by the aviation authority of another country to identify and address an unsafe condition on an aviation product. The MCAI describes the unsafe condition as the fuel system integral sump tank not meeting FAA regulations. We are issuing this AD to prevent the accumulation of flammable fluids or vapors, which could lead to a flammability issue.

(f) Actions and Compliance

Unless already done, do the following actions:

(1) For all affected Group 1 airplanes: Within the next 100 hours time-in-service (TIS) after April 12, 2018 (the effective date of this AD) or within the next 3 months after April 12, 2018 (the effective date of this AD), whichever occurs first, modify the airplane following Part 1 of GippsAero Service Bulletin SB-GA8-2012-96, Issue 6, dated July 21, 2016. If the airplane was previously affected under AD 2013-19-12 and compliance with that AD has already been done, this AD allows credit for doing this modification following Part 1 of GippsAero Mandatory Service Bulletin SB-GA8-2012-96, Issue 4, dated August 12, 2013.

(2) For affected Group 1 airplanes that are equipped with a cargo pod part number GA8-255004-017 or GA8-255004-019: Before further flight after the modification required in paragraph (f)(1) of this AD, modify the cargo pod following Part 2 of GippsAero Service Bulletin SB-GA8-2012-96, Issue 6, dated July 21, 2016. If the airplane was previously affected under AD 2013-19-12 and compliance with that AD has already been done, this AD allows credit for doing this modification following Part 2 of GippsAero Mandatory Service Bulletin SB-GA8-2012-96, Issue 4, dated August 12, 2013.

(3) For all affected Group 2 airplanes: Within the next 100 hours TIS after April 12, 2018 (the effective date of this AD) or within 3 months after April 12, 2018 (the effective date of this AD), whichever occurs first, modify the airplane following Part 3 of GippsAero Service Bulletin SB-GA8-2012-96, Issue 6, dated July 21, 2016.

(g) Credit for Actions Done Following Previous Service Information

This AD allows credit for airplanes that were previously affected by AD 2013-19-12 and the actions required in paragraphs (f)(1) and (f)(2) of this AD were previously done following Part 1 and Part 2 of GippsAero Mandatory Service Bulletin SB-GA8-2012-96, Issue 4, dated August 12, 2013.

(h) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, Standards Office, FAA; or the Civil Aviation Safety Authority (CASA).

(i) Related Information

Refer to MCAI Civil Aviation Safety Authority (CASA) AD No. AD/GA8/7, Amendment 1, dated November 13, 2017; and GippsAero Mandatory Service Bulletin SB-GA8-2012-96, Issue 4, dated August 12, 2013. You may examine the MCAI on the internet at https://www.regulations.gov/document?D=FAA-2017-1166-0002.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) GippsAero Service Bulletin SB-GA8-2012-96, Issue 6, dated July 21, 2016.

(ii) Reserved.

(3) For GA 8 Airvan (Pty) Ltd service information identified in this AD, contact GA 8 Airvan (Pty) Ltd, c/o GippsAero Pty Ltd, Attn: Technical Services, P.O. Box 881, Morwell Victoria 3840, Australia; telephone: +61 03 5172 1200; fax: +61 03 5172 1201; email: aircraft.techpubs@mahindraaerospace.com.

(4) You may view this service information at FAA, Policy and Innovation Division, 901 Locust, Kansas City, Missouri 64106. For information on the availability of this material at the FAA, call 816-329-4148. In addition, you can access this service information on the internet at http://www.regulations.gov by searching for and locating Docket No. FAA-2017-1166.

(5) You may view this service information that is incorporated by reference at the National Archives and Records Administration (NARA). For information on the availability of this material at NARA, call 202-741-6030, or go to: http://www.archives.gov/federal-register/cfr/ibr-locations.html.

Issued in Kansas City, Missouri, on February 26, 2018.
Melvin J. Johnson,
Deputy Director, Policy & Innovation Division, Aircraft Certification Service.

[FR Doc. 2018-04405 Filed 3-7-18; 8:45 am]

BILLING CODE 4910-13-P